DEPARTMENT OF AGRICULTURE

Animal and Plant Health Inspection Service

[Docket No. APHIS-2009-0024]

Secretary’s Advisory Committee on Animal Health

AGENCY: Animal and Plant Health Inspection Service, USDA.

ACTION: Notice of intent.

SUMMARY: We are giving notice that the Secretary of Agriculture intends to establish the Secretary’s Advisory Committee on Animal Health for a 2-year period. The Secretary of Agriculture has determined that the Committee is necessary and in the public interest.

FOR FURTHER INFORMATION CONTACT: Mr. Michael R. Doerrer, Chief Operating Officer, Veterinary Services, APHIS, 4700 River Road Unit 58, Riverdale, MD 20737; (301) 734-5034; (Michael.R.Doerrer@aphis.usda.gov).

SUPPLEMENTARY INFORMATION: The purpose of the Secretary’s Advisory Committee on Animal Health (the Committee) is to advise the Secretary of Agriculture on means to prevent, conduct surveillance, monitor, control, or eradicate animal diseases of national importance. In doing so, the committee will consider public health, conservation of natural resources, and the stability of livestock economies.

Done in Washington, DC, this 11th day of June 2010.

Pearlie S. Reed,
Assistant Secretary for Administration.

[FR Doc. 2010-14659 Filed 6-16-10; 8:45 am]

BILLING CODE 3410-34-S